DEPARTMENT OF HEALTH AND HUMAN SERVICES

Centers for Disease Control and Prevention

[60Day-21-21BZ; Docket No. CDC-2021-0006]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a request for emergency clearance of the information collection titled Requirement for Proof of Negative Covid-19 Test Result for All Airline Passengers Arriving into The United States from The United Kingdom. This collection accompanies a CDC Order of the same name, and is designed to ensure public health authorities in the United States can confirm that individuals have received a negative test result for COVID-19 prior to departing the United Kingdom and arriving in the United States.

DATES: CDC must receive written comments on or before March 29, 2021.

ADDRESSES: You may submit comments, identified by Docket No. CDC-2021-0006 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, of the Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Requirement for Proof of Negative COVID-19 test result for all airline passengers arriving into the United States from the United Kingdom—New—National Center for Emerging Zoonotic and Infectious Diseases (NCEZID), Centers for Disease Control and Prevention (CDC).

Background and Brief Description

This information collection accompanies the Notice and Order named above. Pursuant to 42 CFR 71.20 and as set forth in greater detail below, this Notice and Order prohibit the introduction into the United States of any airline passenger departing from the UK unless the passenger has a negative pre-departure test result for COVID-19. The test must be a viral test that was conducted on a specimen collected during the three calendar days preceding the flight's departure (Qualifying Test). Passengers must retain written or electronic documentation reflecting the negative Qualifying Test result presented to the airline and produce such results upon request to any U.S. government official or a cooperating state or local public health authority.

Pursuant to 42 CFR 71.31(b) and as set forth in greater detail below, this Notice and Order constitutes a controlled free pratique to any airline with an aircraft arriving into the United States from the UK. Pursuant to the controlled free pratique, the airline must comply with the following conditions in order to receive permission for the aircraft to enter and disembark passengers in the United States:

• Airline must verify that every passenger—two years of age or older—onboard the flight has attested to having received a negative Qualifying Test result.

• Airline must confirm that every passenger onboard the aircraft has documentation reflecting a negative Qualifying Test result.

CDC is requiring that individuals retain copies of their negative tests. CDC anticipates this will result in no significant costs or burden in either hard copy or electronic form. CDC is also requiring that the airlines retain the attestation of negative test provided by the passenger. As long as the attestation conforms to Attachment A of the Order, either electronic or hard copy retention is acceptable. CDC anticipates that any hard copy attestation would be digitized and result in negligible storage costs. Estimated annual burden hours requested are 266,667.

Estimated Annualized Burden Hours
Type of respondent | Form name | Number of respondents | Number of responses per respondent | Average burden per response (in hours) | Total burden (in hours)
Traveler (3rd Party Disclosure) | Proof of a negative COVID-19 test | 1,000,000 | 1 | 15/60 | 250,000
Airline Desk Agent | Review of proof of negative COVID-19 test | 1,000,000 | 1 | 1/60 | 16,667
Total |  |  |  |  | 266,667

Jeffrey M. Zirger,
Lead, Information Collection Review Office, Office of Scientific Integrity, Office of Science, Centers for Disease Control and Prevention.

[FR Doc. 2021-01620 Filed 1-25-21; 8:45 am]

BILLING CODE 4163-18-P